DEPARTMENT OF THE INTERIOR

National Park Service

Draft General Management Plan and Environmental Impact Statement for Manassas National Battlefield Park, VA

AGENCY: National Park Service.

ACTION: Notice of availability of the Draft General Management Plan and Draft Environmental Impact Statement for Manassas National Battlefield Park, Virginia (GMP/EIS).

SUMMARY: Pursuant to section 102(2)(C) of the National Environmental Policy Act of 1969, Public Law 91-190, as amended; 42 United States Code 4332(C), the National Park Service (NPS) announces the availability of the GMP/EIS. The General Management Plan will guide management decisions related to cultural and natural resources, visitation, and park development for the next 15 to 20 years.

DATES: The GMP/EIS will remain available for public review for 60 days following publication of the notice of availability in the Federal Register by the Environmental Protection Agency. No public meetings are scheduled at this time. Public meetings will be scheduled during the 60 day review and announced in local media and online via the park's Web site at http://www.nps.gov/mana and via the NPS park planning Web site at http://parkplanning.nps.gov.

ADDRESSES: Paper and electronic copies on CD-ROM of the GMP/EIS are available by request. Interested persons and organizations can obtain a copy by writing to Manassas National Battlefield Park, c/o Dr. Robert K. Sutton, Superintendent, 12521 Lee Highway, Manassas, Virginia 20109-2005, by telephoning (703) 754-1861, or by e-mailing robert_sutton.nps.gov. The document is also available to be picked up in person at the headquarters of Manassas National Battlefield Park, 12521 Lee Highway, Manassas, Virginia 20109-2005. This document can also be found online at the NPS park planning Web site at http://parkplanning.nps.gov.

FOR FURTHER INFORMATION CONTACT: Robert K. Sutton, Superintendent, Manassas National Battlefield Park, 12521 Lee Highway, Manassas, Virginia 20109-2005, telephone (703) 754-1861, robert_sutton@nps.gov.

SUPPLEMENTARY INFORMATION: The purpose of the GMP/EIS is to set forth the basic management philosophy for the park and to provide strategies for addressing issues and achieving identified management objectives for the next 15 to 20 years. The GMP/EIS describes and analyzes the environmental impacts of two action alternatives that would guide the future management of the park. Alternative B, the preferred alternative, is titled “The Two Battles of Manassas—A Comprehensive Understanding of Each Battle.” Alternative C is titled “The Defining Moments of the Battles of Manassas—An Understanding of the Principal Events.” Alternative A is also evaluated. It is the no-action alternative and would continue to guide the park as it is now under the current management practices.

Persons wishing to comment may do so by one of several ways. Written comments can be mailed to Dr. Robert K. Sutton, Superintendent, Manassas National Battlefield Park, 12521 Lee Highway, Manassas, Virginia 20109-2005. Comments may be submitted on-line at http://parkplanning.nps.gov. Written comments may also be hand-delivered to the park headquarters of Manassas National Battlefield Park, 12521 Lee Highway, Manassas, Virginia 20109-2005. Regardless of how the comment is submitted, please include your name and return address with your comment.

The NPS practice is to make comments available for public review during regular business hours, including the names and home addresses of respondents. Individual respondents may request that we withhold their home address from the record, which we will honor to the extent allowable by law. There also might be circumstances in which we would withhold from the record a respondent's identity, as allowable by law. If you wish us to withhold your name and/or address, you must state this request prominently at the beginning of your comment. Please note that we will not consider anonymous comments. We will make all submissions from organizations or businesses, and from individuals identifying themselves as representatives or officials of organizations or businesses, available for public inspection in their entirety.

The responsible official is Joseph M. Lawler, Regional Director, National Capital Region.

Dated: November 15, 2005.
Joseph M. Lawler,
Regional Director, National Capital Region.

[FR Doc. 06-34 Filed 1-3-06; 8:45 am]

BILLING CODE 4312-JK-M